DEPARTMENT OF LABOR

Occupational Safety and Health Administration

[Docket No. OSHA-2013-0017]

QAI Laboratories, Ltd. Applications for Expansion of Recognition

AGENCY: Occupational Safety and Health Administration (OSHA), Labor.

ACTION: Notice.

SUMMARY: In this notice, OSHA announces the final decision to expand the scope of recognition for QAI Laboratories, Ltd., (QAI) as a Nationally Recognized Testing Laboratory (NRTL).

DATES: The expansion of the scope of recognition becomes effective on January 13, 2021.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Notice of Final Decision

OSHA hereby gives notice of the expansion of the scope of recognition for QAI to cover the addition of twenty-one test standards to the NRTL scope of recognition.

OSHA's recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes NRTL applications for initial recognition and for an expansion or renewal of this recognition, following requirements in Appendix A to 29 CFR 1910.7. This appendix requires the agency publish two notices in the Federal Register in processing an application. In the first notice, OSHA announces the application and provides a preliminary finding. In the second notice, the agency provides the final decision on the application. These notices set forth the NRTL's scope of recognition or modifications of that scope. OSHA maintains an informational web page for each NRTL, including QAI, detailing the NRTL's scope of recognition. These pages are available from the OSHA website at http://www.osha.gov/dts/otpca/nrtl/index.html.

QAI currently has two facilities (sites) recognized by OSHA for product testing and certification, with headquarters located at: QAI Laboratories, Ltd., 3980 North Fraser Way, Burnaby, BC, Canada, V5J 5K5. A complete list of QAI's scope of recognition is available at https://www.osha.gov/dts/otpca/nrtl/qai.html.

QAI submitted three applications, one dated October 16, 2017 (OSHA-2013-0017-0015), to expand recognition to include seventeen additional test standards. This application was amended on June 12, 2019 (OSHA-2013-0017-0016), to remove some standards from the original request and add others. This revised application was amended again on February 11, 2020 (OSHA-2013-0017-0017), to request twenty-one additional standards to be added to QAI's NRTL scope of recognition. OSHA staff performed a detailed analysis of the application packet and reviewed other pertinent information. OSHA did not perform any on-site reviews in relation to this application. OSHA published the preliminary notice announcing QAI's expansion applications in the Federal Register on September 22, 2020 (85 FR 59557). The agency requested comments by October 7, 2020, but it received no comments in response to this notice. OSHA is now proceeding with this final notice to grant expansion of QAI's scope of recognition.

To obtain or review copies of all public documents pertaining to QAI's applications, go to www.regulations.gov or contact the Docket Office, Occupational Safety and Health Administration at 202-693-2350. Docket No. OSHA-2013-0017 contains all materials in the record concerning QAI's recognition.

II. Final Decision and Order

OSHA examined QAI's expansion applications, the capability to meet the requirements of the test standards, and other pertinent information. Based on a review of this evidence, OSHA finds that QAI meets the requirements of 29 CFR 1910.7 for expansion of the scope of recognition, subject to the conditions listed below. OSHA, therefore, is proceeding with this final notice to grant the expansion of QAI's scope of recognition. OSHA limits the expansion of QAI's scope of recognition to testing and certification of products for demonstration of conformance to the test standards listed in Table 1.

Table 1—List of Appropriate Test Standards for Inclusion in QAI's NRTL Scope of Recognition
Test standard | Test standard title
UL 1740 | Standard for Robots and Robotic Equipment.
UL 22 | Standard for Amusement and Gaming Machines.
UL 73 | Standard for Motor-Operated Appliances.
UL 499 | Standard for Electric Heating Machines.
UL 506 | Standard for Specialty Transformers.
UL 676 | Standard for Underwater Luminaires and Submersible Junction Boxes.
UL 1838 | Standard for Low Voltage Landscape Lighting Systems.
UL 2202 | Standard for Electric Vehicle (EV) Charging System Equipment.
UL 2388 | Standard for Flexible Lighting Products.
UL 5085-1 | Low Voltage Transformers—Part 1: General Requirements.
UL 5085-2 | Low Voltage Transformers—Part 2: General Purpose Transformers.
UL 5085-3 | Low Voltage Transformers—Part 3: Class 2 and Class 3 Transformers.
UL 8752 | Organic Light Emitting Diode (OLED) Panels.
UL 60950-22 | Information Technology Equipment—Safety—Part 22: Equipment to be Installed Outdoors.
UL 61010-2-010 | Electrical Equipment Measurement, Control and Laboratory Use—Part 2-010: Particular Requirements for Laboratory Equipment for the Heating of Materials.
UL 61010-2-020 | Electrical Equipment for Measurement, Control and Laboratory Use—Part 2-020: Particular Requirements for Laboratory Equipment for Laboratory Centrifuges.
UL 61010-2-081 | Electrical Equipment for Measurement, Control and Laboratory Use—Part 2-081: Particular Requirements for Laboratory Equipment for Automatic and Semi-Automatic Equipment for Analysis and Other Purposes.
UL 61010-2-091 | Electrical Equipment for Measurement, Control and Laboratory Use—Part 2-091: Particular Requirements for Laboratory Equipment for Cabinet X-Ray Systems.
UL 61010-2-101 | Electrical Equipment for Measurement, Control and Laboratory Use—Part 2-101: Particular Requirements for In Vitro Diagnostic (IVD) Medical Equipment.
UL 62368-1 | Audio/Video, Information and Communication Technology Equipment—Part 1: Safety Requirements.
ASME A17.5-2014 | Elevator and Escalator Electrical Equipment.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, the designation of the standards-developing organization for the standard as opposed to the ANSI designation may be used. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, QAI must abide by the following conditions of the recognition:

1. QAI must inform OSHA as soon as possible, in writing, of any change of ownership, facilities, or key personnel, and of any major change in the operations as a NRTL, and provide details of the change(s);

2. QAI must meet all the terms of the recognition and comply with all OSHA policies pertaining to this recognition; and

3. QAI must continue to meet the requirements for recognition, including all previously published conditions on QAI's scope of recognition, in all areas for which it has recognition.

Pursuant to the authority in 29 CFR 1910.7, OSHA hereby expands the scope of recognition of QAI, subject to the conditions specified in this notice.

III. Authority and Signature

Loren Sweatt, Principal Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393, Sept. 18, 2020), and 29 CFR 1910.7.

Signed at Washington, DC, on January 7, 2021.
Loren Sweatt,
Principal Deputy Assistant Secretary of Labor for Occupational Safety and Health.

[FR Doc. 2021-00502 Filed 1-12-21; 8:45 am]

BILLING CODE 4510-26-P